DEPARTMENT OF ENERGY

Federal Energy Regulatory Commission

[Docket No. CP02-142-003]

Columbia Gas Transmission Corporation; Notice of Petition To Amend

May 23, 2003.

Take notice that on May 22, 2003, Columbia Gas Transmission Corporation (Columbia), 12801 Fair Lakes Parkway, Fairfax, Virginia 22030-0146, filed in Docket No. CP02-142-003, a petition to amend the order issued December 20, 2002, in Docket No. CP02-142-000, et al., pursuant to Sections 7(b) and (c) of the Natural Gas Act (NGA) and part 157 of the Commission's Regulations authorizing the abandonment and construction and operation of certain natural gas transmission facilities in Pennsylvania and Maryland to phase-in certain facilities and underlying firm transportation services for Rock Springs Generation, LLC (Rock Springs) and CED Rock Springs, Inc. (CEDRS) (together, “Customers”), all as more fully set forth in the application which is on file with the Commission and open to public inspection.

Columbia proposes to revise its previously approved proposals in Docket Nos. CP142-000, et al. in order to phase-in operation of certain authorized facilities and the underlying transportation services to the Customers pursuant to interim service agreements negotiated with the Customers subsequent to the December 20 Order. Columbia states that construction of electric generation facilities is essentially complete, and firm service is still required for testing and for operation during summer peak electric demand season. It is asserted that the Customers requested service at the earliest date possible, and that the service agreements were proposed to be effective May 1, 2003. Columbia indicates that certain of the certificated facilities can be placed into service earlier than the October 2003 date envisioned in the December 20, 2002 Order. Phasing the in-service date of the facilities, it is asserted, will permit Columbia to render an interim lower volume transportation service for its customers until all the facilities (and the related incremental capacity) are completed and placed in service in the fall of 2003.

It is stated that in all respects other than phasing in of the facilities and transportation service, the authorizations in the original order would remain the same.

Any questions regarding this application should be directed to Fredric J. George, Senior Attorney, at (304) 357-2359, Columbia Gas Transmission Company, P.O. Box 1273, Charleston, West Virginia 25325-1273.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: June 2, 2003.

Magalie R. Salas,
Secretary.

[FR Doc. 03-13613 Filed 5-30-03; 8:45 am]

BILLING CODE 6717-01-P